DEPARTMENT OF THE INTERIOR

Fish and Wildlife Service

[FWS-R8-ES-2021-N175; FXES11140800000-212-FF08EVEN00]

Endangered and Threatened Wildlife and Plants; Draft Habitat Conservation Plan and Draft Categorical Exclusion for the California Red-Legged Frog and the Southwestern Pond Turtle; Tajiguas Landfill and ReSource Center Project, Santa Barbara County, California

AGENCY: Fish and Wildlife Service, Interior.

ACTION: Notice of availability; request for comments.

SUMMARY: We, the U.S. Fish and Wildlife Service, announce the availability of a draft habitat conservation plan (HCP) and draft categorical exclusion (CatEx) for activities associated with an application for an incidental take permit (ITP) under the Endangered Species Act of 1973, as amended. The ITP would authorize take of the California red-legged frog and southwestern pond turtle incidental to activities associated with the operations, maintenance, and closure of the Tajiguas Landfill and ReSource Center in Santa Barbara County, California. The applicant developed the draft HCP as part of their application for an ITP. The Service prepared a draft low-effect screening form and environmental action statement in accordance with the National Environmental Policy Act to evaluate the potential effects to the natural and human environment resulting from issuing an ITP to the applicant. We invite public comment on these documents.

DATES: Written comments should be received on or before May 9, 2022.

ADDRESSES:

Obtaining Documents: You may download a copy of the draft HCP and draft CatEx at https://regulations.gov/, or you may request copies of the documents by U.S. mail (below) or by phone (see FOR FURTHER INFORMATION CONTACT).

Submitting Written Comments: Please send us your written comments using one of the following methods:

• U.S. mail: Stephen P. Henry, Field Supervisor, Ventura Fish and Wildlife Office, U.S. Fish and Wildlife Service, 2493 Portola Road, Suite B, Ventura, CA 93003.

• Email: kirby_bartlett@fws.gov.

FOR FURTHER INFORMATION CONTACT: Kirby Bartlett, Fish and Wildlife Biologist, by email (see ADDRESSES), via phone at (805) 677-3307, via the Federal Relay Service at 1-800-877-8339 for TTY assistance, or by mail (see ADDRESSES).

SUPPLEMENTARY INFORMATION: We, the U.S. Fish and Wildlife Service (Service), announce the availability of a draft habitat conservation plan (HCP) and draft low-effect screening form and environmental action statement for activities associated with an application for an incidental take permit (ITP) under section 10(a)(1)(B) of the Endangered Species Act of 1973, as amended (ESA; 16 U.S.C. 1531 et seq.). The ITP would authorize take of the California red-legged frog (Rana draytonii) and Southwestern pond turtle incidental to activities associated with continued operation of the Tajiguas Landfill including regular operations, maintenance and repair activities; operation and maintenance of the ReSource Center; construction of ancillary components of the ReSource Center; and closure and post closure maintenance of the Tajiguas Landfill. The applicant developed the draft HCP as part of their application for an ITP. The Service prepared a draft low-effect screening form and environmental action statement in accordance with the National Environmental Policy Act of 1969 (NEPA; 42 U.S.C. 4321 et seq.) to evaluate the potential effects to the natural and human environment resulting from issuing an ITP to the applicant. We invite public comment on all of these documents.

Background

The Service listed the California red-legged frog as threatened on May 23, 1996 (61 FR 25813). The Service is currently evaluating southwestern pond turtle for listing following the filing of a petition to list this species (80 Federal Register [FR] 19259, April 10, 2015), and southwestern pond turtle is a California state species of special concern. Section 9 of the ESA prohibits take of fish and wildlife species listed as endangered (16 U.S.C. 1538). Under the ESA, “take” is defined to include the following activities: “to harass, harm, pursue, hunt, shoot, wound, kill, trap, capture, or collect, or to attempt to engage in any such conduct” (16 U.S.C. 1532). Under section 10(a)(1)(B) of the ESA (16 U.S.C. 1539(a)(1)(B)), we may issue permits to authorize take of listed fish and wildlife species that is incidental to, and not the purpose of, carrying out an otherwise lawful activity. Regulations governing incidental take permits for endangered species are in the Code of Federal Regulations (CFR) at 50 CFR 17.22. Issuance of an ITP also must not jeopardize the existence of federally listed fish, wildlife, or plant species, pursuant to section 7 of the ESA and 50 CFR 402.02. The permittee would receive assurances under our “No Surprises” regulations (50 CFR 17.22(b)(5)).

Proposed Activities

The applicant has applied for a permit for incidental take of California red-legged frog and southwestern pond turtle. The take would occur in association with the operations, maintenance, and closure of the Tajiguas Landfill and ReSource Center in Santa Barbara County, California.

The HCP includes avoidance and minimization measures for the California red-legged frog and southwestern pond turtle and mitigation for unavoidable loss of habitat. As mitigation, the applicant proposes to protect 110-s of otherwise developable land adjacent to the Tajiguas Landfill with a conservation easement. The proposed conservation easement area is comprised of aquatic, adjacent upland, and dispersal habitat within California red-legged frog Critical Habitat Unit STB-6; including 3,500 linear feet of occupied California red-legged frog and southwestern pond turtle breeding habitat within Arroyo Quemado drainage.

Public Availability of Comments

Before including your address, phone number, email address, or other personal identifying information in your comment, you should be aware that your entire comment, including your personal identifying information, may be made publicly available at any time. While you can ask us in your comment to withhold your personal identifying information from public view, we cannot guarantee that we will be able to do so.

Authority

We provide this notice under section 10(c) of the ESA (16 U.S.C. 1531 et seq.) and its implementing regulations (50 CFR 17.22) and NEPA (42 U.S.C. 4321 et seq.) and its implementing regulations (40 CFR 1506.6).

Stephen Henry,
Field Supervisor, Ventura Fish and Wildlife Office, Ventura, California.

[FR Doc. 2022-07579 Filed 4-7-22; 8:45 am]

BILLING CODE 4333-15-P